DEPARTMENT OF TRANSPORTATION

Federal Highway Administration

Limitation of Claims Notice for Judicial Review of Actions by FHWA and Other Federal Agencies in the City of Cincinnati, Hamilton County, OH and the City of Covington, Kenton County, KY

AGENCY: Federal Highway Administration (FHWA), DOT.

ACTION: Notice of limitation on claims for judicial review of actions by FHWA and other federal agencies.

SUMMARY: By this notice, the FHWA is advising the public of final agency actions subject to 23 U.S.C. 139(l)(1). The actions relate to a proposed project to improve the Brent Spence Bridge over the Ohio River, as well as improvements to Interstate Routes 71 and 75 and interchanges in the City of Cincinnati, Hamilton County, State of Ohio and City of Covington, Kenton County, Commonwealth of Kentucky, including a new bridge over the Ohio River. This notice covers those Federal agency actions to grant licenses, permits, and approvals for the project.

DATES: A claim seeking judicial review of the Federal agency actions on the highway project will be barred unless the claim is filed on or before May 1, 2013. If the Federal law that authorizes judicial review of a claim provides a time period of less than 180 days for filing such claim, then that shorter time period still applies.

FOR FURTHER INFORMATION CONTACT: Noel F. Mehlo Jr., Environmental Program Manager, Federal Highway Administration, 200 North High Street, Room 328, Columbus, Ohio 43215, Telephone: (614) 280-6896; or Stefan Spinosa, PE, Ohio Department of Transportation (ODOT), 505 South State Route 741, Lebanon, Ohio 45036, Telephone: (513) 933-6639.

SUPPLEMENTARY INFORMATION: Notice is hereby given that the FHWA and other Federal agencies including, but not limited to; the United States Coast Guard, United States Army Corps of Engineers, United States Fish and Wildlife Service, Advisory Council on Historic Preservation, and USEPA have taken final agency actions by issuing licenses, permits, and approvals for the following major highway improvements in the State of Ohio and the Commonwealth of Kentucky. The project will involve: construction of a new Ohio River Bridge; an addition of one lane in each direction on I-75 from the Western Hills Viaduct interchange in Cincinnati to the Dixie Highway interchange in Kentucky, including auxiliary lanes and collector-distributor systems where required at each interchange within the project area. The overall project length is approximately 7.8 miles along I-75. The actions by the Federal agencies, and the laws under which such actions were taken, are described in the FHWA administrative record for the Environmental Assessment (EA) for the project and included in the Finding of No Significant Impact (FONSI) issued on August 9, 2012. The EA, FONSI, and other documents in the FHWA administrative record file are available by contacting the FHWA or ODOT at the addresses provided above. Pertinent project files may also be accessed through the ODOT project Web site at: http://www.brentspencebridgecorridor.com/. This notice applies to all Federal agency decisions as of the issuance date of this notice and all laws under which such actions were taken, including but not limited to:

1. General: National Environmental Policy Act (NEPA) [42 U.S.C. 4321-4351]; Federal-Aid Highway Act [23 U.S.C. 109].

2. Air: Clean Air Act, 42 U.S.C. 7401-7671(q).

3. Land: Section 4(f) of the Department of Transportation Act of 1966 [49 U.S.C. 303]; Landscaping and Scenic Enhancement (Wildflowers), 23 U.S.C. 319.

4. Wildlife: Endangered Species Act [16 U.S.C. 1531-1544 and Section 1536], Marine Mammal Protection Act [16 U.S.C. 1361], Fish and Wildlife Coordination Act [16 U.S.C. 661-667(d)], Migratory Bird Treaty Act [16 U.S.C. 703-712].

5. Historic and Cultural Resources: Section 106 of the National Historic Preservation Act of 1966, as amended [16 U.S.C. 470(f) et seq.]; Archeological Resources Protection Act of 1977 [16 U.S.C. 470(aa)-11]; Archeological and Historic Preservation Act [16 U.S.C. 469-469(c)]; Native American Grave Protection and Repatriation Act (NAGPRA) [25 U.S.C. 3001-3013].

6. Social and Economic: Civil Rights Act of 1964 [42 U.S.C. 2000(d)-2000(d)(1)]; American Indian Religious Freedom Act [42 U.S.C. 1996]; Farmland Protection Policy Act (FPPA) [7 U.S.C. 4201-4209].

7. Wetlands and Water Resources: Clean Water Act, 33 U.S.C. 1251-1377 (Section 404, Section 401, Section 319); Land and Water Conservation Fund (LWCF), 16 U.S.C. 4601-4604; Safe Drinking Water Act (SDWA), 42 U.S.C. 300(f)-300(j)(6); Rivers and Harbors Act of 1899, 33 U.S.C. 401-406; Wild and Scenic Rivers Act, 16 U.S.C. 1271-1287; Emergency Wetlands Resources Act, 16 U.S.C. 3921, 3931; TEA-21 Wetlands Mitigation, 23 U.S.C. 103(b)(6)(m), 133(b)(11); Flood Disaster Protection Act, 42 U.S.C. 4001-4128.

8. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

Catalog of Federal Domestic Assistance Number and Title: FHWA 20.205 Highway Planning and Construction (A, B). The regulations implementing Executive Order 12372 regarding intergovernmental consultation on Federal programs and activities apply to this program.

Authority: 23 U.S.C. 139(l)(1).

Issued on: October 23, 2012.
Robert L. Griffith,
Acting Division Administrator, Federal Highway Administration, Columbus, Ohio.

[FR Doc. 2012-26874 Filed 11-1-12; 8:45 am]

BILLING CODE 4910-22-P